DEPARTMENT OF COMMERCE

International Trade Administration

[A-583-837]

Polyethylene Terephthalate Film, Sheet, and Strip (PET Film) From Taiwan: Final Results of Antidumping Duty Administrative Review and Final Determination of No Shipments; 2020-2021

AGENCY: Enforcement and Compliance, International Trade Administration, Department of Commerce.

DATES: Applicable October 26, 2022.

SUMMARY: On June 28, 2022, the U.S. Department of Commerce (Commerce) published the preliminary results of the 2020-2021 administrative review of the antidumping duty order on polyethylene terephthalate film, sheet, and strip (PET Film) from Taiwan. The period of review (POR) is July 1, 2020, through June 30, 2021. We continue to find that Nan Ya Plastics Corporation (Nan Ya) made no sales of subject merchandise to the United States at less than normal value during the POR. We also continue to find that Shinkong Materials Technology Corporation (SMTC)/Shinkong Synthetic Fibers Corporation (SSFC) had no shipments of subject merchandise to the United States during the POR.

FOR FURTHER INFORMATION CONTACT: Charles DeFilippo or Jacqueline Arrowsmith, AD/CVD Operations, Office VII, Enforcement and Compliance, International Trade Administration, U.S. Department of Commerce, 1401 Constitution Avenue NW, Washington, DC 20230; telephone: (202) 482-3797 or (202) 482-5255, respectively.

Background

On June 28, 2022, Commerce published the preliminary results for this administrative review.¹ We invited interested parties to comment on the Preliminary Results; however, no interested party submitted comments. Accordingly, we made no changes to the Preliminary Results.

¹ See Polyethylene Terephthalate Film, Sheet, and Strip from Taiwan: Preliminary Results of Antidumping Duty Administrative Duty Review and Preliminary Determination of No Shipments; 2020-2021, 87 FR 38374 (June 28, 2022) (Preliminary Results), and accompanying Preliminary Decision Memorandum (PDM).

Scope of the Order 2

² See Notice of Amended Final Antidumping Duty Determination of Sales at Less Than Fair Value and Antidumping Duty Order: Polyethylene Terephthalate Film, Sheet, and Strip (PET Film) from Taiwan, 67 FR 44174 (July 1, 2002) (Order).

The products covered by the Order are all gauges of raw, pretreated, or primed PET film, whether extruded or coextruded. Excluded are metalized films and other finished films that have had at least one of their surfaces modified by the application of a performance-enhancing resinous or inorganic layer of more than 0.00001 inches thick. Imports of PET film are currently classifiable in the Harmonized Tariff Schedule of the United States (HTSUS) under item number 3920.62.00.90. HTSUS subheadings are provided for convenience and Customs purposes. The written description of the scope of Order is dispositive.

Final Determination of No Shipments

In the Preliminary Results, Commerce determined that SMTC and its affiliate SSFC had no shipments of PET film during the POR, based on a response of the U.S. Customs and Border Protection (CBP) to Commerce's no-shipment inquiry, as well as certifications and supporting documentation provided by SMTC/SSFC.³ We received no comments from any interested party on our preliminary finding. As there is no information on the record that calls into question the finding in the Preliminary Results, we continue to find in the final results of this review that SMTC/SSFC had no shipments of subject merchandise during the POR.

³ For a full discussion of this determination, see Preliminary Results PDM.

Final Results of Review

As noted above, Commerce received no comments concerning the Preliminary Results. We continue to find that sales of subject merchandise by Nan Ya were not made at less than normal value during the POR. Accordingly, no decision memorandum accompanies this Federal Register notice.⁴ The final weighted-average dumping margin for the period July 1, 2020, through June 30, 2021, for Nan Ya is as follows:

⁴ For further details, see Preliminary Results PDM.

Producer/exporter | Weighted- average dumping margin (percent)
Nan Ya Plastics Corporation | 0.00

Assessment Rates

Commerce will determine, and CBP shall assess, antidumping duties on all appropriate entries in this review, in accordance with section 751(a)(2)(C) of the Tariff Act of 1930, as amended (the Act) and 19 CFR 351.212(b)(1). Because we calculated a zero percent margin in the final results of this review for Nan Ya, in accordance with 19 CFR 351.212 we will instruct CBP to liquidate the appropriate entries without regard to antidumping duties. In addition, as Commerce continues to find that SMTC/SSFC did not have any shipments of subject merchandise during the POR, we will instruct CBP to liquidate any suspended entries of subject merchandise associated with SMTC/SSFC at the all-others rate.

Commerce intends to issue appropriate assessment instructions directly to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided for by section 751(a)(2)(C) of the Act: (1) the cash deposit rate for Nan Ya will be zero, the rate established in the final results of this review; (2) for previously reviewed or investigated companies not covered in this review, the cash deposit rate will continue to be the company-specific rate published for the most recent period; (3) if the exporter is not a firm covered in this or any previous review or in the original less-than-fair-value (LTFV) investigation but the manufacturer is, the cash deposit rate will be the rate established for the most recent period for the manufacturer of the merchandise; and (4) if neither the exporter nor the manufacturer is a firm covered in this or any previous review or the LTFV investigation, the cash deposit rate will continue to be the all-others rate of 2.40 percent, which is the all-others rate established by Commerce in the LTFV investigation.⁵ These cash deposit requirements, when imposed, shall remain in effect until further notice.

⁵ See Notice of Amended Final Antidumping Duty Determination of Sales at Less Than Fair Value and Antidumping Duty Order: Polyethylene Terephthalate Film, Sheet, and Strip (PET Film) from Taiwan, 67 FR at 44175 (July 1, 2002), unchanged in Notice of Amended Final Antidumping Duty Determination of Sales at Less Than Fair Value and Antidumping Duty Order: Polyethylene Terephthalate Film, Sheet, and Strip (PET Film) from Taiwain {sic}, 67 FR at 46566 (July 15, 2002).

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

These results are being issued and published in accordance with sections 751(a)(1) and 777(i)(1) of the Act and 19 CFR 351.213(h).

Dated: October 20, 2022.
Lisa W. Wang,
Assistant Secretary for Enforcement and Compliance.

[FR Doc. 2022-23320 Filed 10-25-22; 8:45 am]

BILLING CODE 3510-DS-P